DEPARTMENT OF HEALTH AND HUMAN SERVICES

Re-Establishment of the Advisory Group on Prevention, Health Promotion, and Integrative and Public Health

AGENCY: Office of the Assistant Secretary for Health, Office of the Secretary, Department of Health and Human Services.

ACTION: Notice.

SUMMARY: The U.S. Department of Health and Human Services announces re-establishment of the Advisory Group on Prevention, Health Promotion, and Integrative and Public Health (hereafter referred to as “the Advisory Group”). Authorization to re-establish the Advisory Group is given under Executive Order 13631, dated December 7, 2012.

FOR FURTHER INFORMATION CONTACT: Corinne Graffunder, Designated Federal Officer (DFO) of the Advisory Group, Office of the Associate Director for Policy; Centers for Disease Control and Prevention; 1600 Clifton Road NE., MS D-28; Atlanta, GA 30329; Telephone: (404) 639-7514; and/or the following person may be contacted: Olga Nelson, Committee Management Officer, Office of the Assistant Secretary for Health; Department of Health and Human Services; 200 Independence Avenue SW., Room 714B; Washington, DC 20201; Telephone: (202) 690-5205; Fax: (202) 401-2222.

SUPPLEMENTARY INFORMATION: It was mandated under the Patient Protection and Affordable Care Act that the President establish the Advisory Group. The President complied with the statute under Executive Order 13544, dated June 10, 2010. The Advisory Group was established as a non-discretionary federal advisory committee. Functioning as a federal advisory committee, the Advisory Group is governed by provisions of the Federal Advisory Committee Act (FACA). FACA stipulates that appropriate action must be taken to renew the charter for a federal advisory committee every two years in order for the committee to continue to operate. Under Executive Order 13544, authorization was given for the Advisory Group to operate for two years, from June 10, 2010 to June 10, 2012. Since the Advisory Group was established by Presidential directive, it was necessary for appropriate action to be taken by the President or agency head to give authorization for the Advisory Group to be continued. A subsequent directive was issued, Executive Order 13591, dated November 23, 2011, to give authorization for the Advisory Group to continue to operate until September 30, 2012. No action was taken to continue the Advisory Group after the designated termination date. Therefore, the Advisory Group was terminated on September 30, 2012.

On December 7, 2012, Executive Order 13631 was issued. This directive gives authorization for the Advisory Group to be re-established. A charter was developed to re-establish the Advisory Group. The charter was approved by the Secretary of Health and Human Services and filed with the appropriate Congressional committees, the Library of Congress, and the Committee Management Secretariat under the General Services Administration (GSA) on February 6, 2013.

Objectives and Scope of Activities. The Advisory Group provides recommendations and advice to the National Prevention, Health Promotion, and Public Health Council (hereafter referred to as the “Council”). The Advisory Group provides assistance to the Council in carrying out its mission. The Advisory Group develops policy and program recommendations and advises the Council on lifestyle-based chronic disease prevention and management, integrative health care practices, and health promotion.

Membership and Designation. The Advisory Group is authorized to consists of not more than 25 non-federal members, who are appointed by the President. In appointing members, the President is to ensure that the Advisory Group includes a diverse group of licensed health professionals, including integrative health practitioners who have expertise in (1) Worksite health promotion; (2) community services, including community health centers; (3) preventive medicine; (4) health coaching; (5) public health education; (6) geriatrics; and (7) rehabilitation medicine.

The Advisory Group had 22 members when it was terminated on September 30, 2012. It is stipulated under Executive Order 13631 that the same members who were serving on the Advisory Group when it was terminated shall be reappointed as if the Advisory Group had continued without termination. Members of the Advisory Group are classified as special Government employees (SGEs).

Administrative Management and Support. HHS provides funding and administrative support for the Advisory Group to the extent permitted by law within existing appropriations. Staff within Office of the Assistant Secretary for Health (OASH) provide management and oversight for support services provided to the Advisory Group. OASH is a staff division within the Office of the Secretary, HHS.

The Advisory Group reports to the Surgeon General, U.S. Public Health Service. The Office of the Surgeon General is a program office that is organizationally located within OASH.

A copy of the charter and information on activities and accomplishments of the Advisory Group can be obtained from the designated contacts or by accessing the FACA database that is maintained by the GSA Committee Management Secretariat. The Web site for the FACA database is http://fido.gov/facadatabase/.

Authority: Authority to establish the Advisory Group was given under Executive Order 13544, dated June 10, 2010, in accordance with Section 4001 of the Patient Protection and Affordable Care Act, Public Law 111-148, dated March 23, 2010. The Advisory Group was terminated on September 30, 2012, by Executive Order 13591, dated November 23, 2011. Authority for the Advisory Group to be re-established is given under Executive Order 13631, dated December 7, 2012. The Advisory Group is governed by provisions of the Federal Advisory Committee Act (FACA), Public Law 92-463, as amended (5 U.S.C. App.), which sets forth standards for the formation and use of advisory committees.

Dated: February 8, 2013.
Wanda K. Jones,
Principal Deputy Assistant Secretary for Health.

[FR Doc. 2013-03466 Filed 2-13-13; 8:45 am]

BILLING CODE 4150-28-P